DEPARTMENT OF ENERGY

Federal Energy Regulatory Commission

Notice of Effectiveness of Exempt Wholesale Generator Status

McHenry Battery Storage, LLC | EG16-126-000
East Pecos Solar, LLC | EG16-127-000
Solverde 1, LLC | EG16-128-000
Antelope DSR 1, LLC | EG16-129-000
Cimarron Bend Wind Project I, LLC | EG16-130-000

Take notice that during the month of September 2016, the status of the above-captioned entities as Exempt Wholesale Generators became effective by operation of the Commission's regulations. 18 CFR 366.7(a).

Dated: October 5, 2016.
Nathaniel J. Davis, Sr.,
Deputy Secretary.

[FR Doc. 2016-24762 Filed 10-12-16; 8:45 am]

BILLING CODE 6717-01-P